DEPARTMENT OF THE INTERIOR

Office of the Secretary

[DOI-2024-0006; 24XD4523WD DWDFJ0000.000000 DS68664000]

Privacy Act of 1974; System of Records

AGENCY: Office of the Secretary, Interior.

ACTION: Notice of a modified system of records.

SUMMARY: Pursuant to the provisions of the Privacy Act of 1974, as amended, the Department of the Interior (DOI) is issuing a public notice of its intent to modify the Privacy Act system of records, INTERIOR/DOI-91, Oracle Federal Financials (OFF). DOI is revising this notice to update the system manager and system location, authorities, storage, retrieval, records retention schedule, safeguards, record source categories, and notification, records access and contesting procedures; propose new and modified routine uses, and all sections to accurately reflect changes in management of the system of records. This modified system will be included in DOI's inventory of record systems.

DATES: This modified system will be effective upon publication. New or modified routine uses will be effective November 6, 2024. Submit comments on or before November 6, 2024.

ADDRESSES: You may send comments identified by docket number [DOI-2024-0006] by any of the following methods:

• Federal eRulemaking Portal: https://www.regulations.gov. Follow the instructions for sending comments.

• Email: DOI_Privacy@ios.doi.gov. Include docket number [DOI-2024-0006] in the subject line of the message.

• U.S. mail or hand-delivery: Teri Barnett, Departmental Privacy Officer, U.S. Department of the Interior, 1849 C Street NW, Room 7112, Washington, DC 20240.

Instructions: All submissions received must include the agency name and docket number [DOI-2024-0006]. All comments received will be posted without change to https://www.regulations.gov, including any personal information provided.

Docket: For access to the docket to read background documents or comments received, go to https://www.regulations.gov.

FOR FURTHER INFORMATION CONTACT: Teri Barnett, Departmental Privacy Officer, U.S. Department of the Interior, 1849 C Street NW, Room 7112, Washington, DC 20240, DOI_Privacy@ios.doi.gov or (202) 208-1605.

SUPPLEMENTARY INFORMATION:

I. Background

The DOI Interior Business Center (IBC) maintains the INTERIOR/DOI-91, Oracle Federal Financials (OFF), system of records. The IBC is a service provider that performs services for Federal government agencies. The IBC's service offerings include providing and maintaining various types of business management systems for its clients, including human resources and financial management applications. The OFF system provides IBC clients with a web-based application that contains customizable financial management modules that combine to provide a comprehensive financial software package to support budgeting, purchasing, Federal procurement, accounts payable, fixed assets, general ledger, inventory, accounts receivable, reimbursement, reporting, and collection functions.

IBC hosts the OFF system and is responsible for system administration functions and other management functions in accordance with interagency agreements with internal and external Federal customer agencies. Each external client agency retains control over its data in the system and is responsible for maintaining client agency records in the OFF system and for meeting the requirements of the Privacy Act and other laws, regulations, and policies. While DOI records generated and maintained in OFF are covered under this system of records notice (SORN), each client agency that maintains records within the system has published system notices that cover their financial management activities. IBC does not collect personally identifiable information directly from individuals on behalf of the customer agency for this system. Therefore, individuals seeking access to or amendment of their records under the control of an external client agency should follow the access procedures outlined in the applicable client agency SORN or send a written inquiry to that Federal agency Chief Privacy Officer.

Additionally, some records maintained within the OFF system may also be covered by existing government-wide SORNs published by the General Services Administration, including GSA/GOVT-3, Travel Charge Card Program, 78 FR 20108 (April 3, 2013); GSA/GOVT-4, Contracted Travel Services Program 74 FR 26700 (June 3, 2009), modification published at 74 FR 28048 (June 12, 2009); and GSA/GOVT-6, GSA SmartPay Purchase Charge Card Program, 73 FR 22376 (April 25, 2008). These records may be subject to handling and disclosure requirements pursuant to the routine uses in the government-wide SORNs, as applicable. Client agencies are responsible for ensuring the handling, use, and sharing of their records in OFF are in compliance with the Privacy Act of 1974, including the provisions regarding notice, access, collection, use, retention, and disclosure of records.

In this notice, DOI is proposing to update the system manager and system location sections; expand on the record source categories section; update authorities for maintenance of the system; update the storage, retrieval, records retention schedule, and safeguards; update the notification, records access and contesting procedures; and provide general updates in accordance with the Privacy Act of 1974 and Office of Management and Budget (OMB) Circular A-108, Federal Agency Responsibilities for Review, Reporting, and Publication under the Privacy Act.

DOI is also changing the routine uses from a numeric to alphabetic list and is proposing to modify existing routine uses to provide clarity and transparency and reflect updates consistent with standard DOI routine uses. The notice of disclosure to consumer reporting agencies section was moved to the end of this section. Routine use A has been modified to further clarify disclosures to the Department of Justice or other Federal agencies when necessary in relation to litigation or judicial proceedings. Routine use B has been modified to clarify disclosures to a congressional office to respond to or resolve an individual's request made to that office. Routine use H has been modified to expand the sharing of information with territorial organizations in response to court orders or for discovery purposes related to litigation. Routine use I has been modified to include the sharing of information with grantees and shared service providers that perform services requiring access to these records on DOI's behalf to carry out the purposes of the system. Routine use J was slightly modified to allow DOI to share information with appropriate Federal agencies or entities when reasonably necessary to prevent, minimize, or remedy the risk of harm to individuals or the Federal Government resulting from a breach in accordance with OMB Memorandum M-17-12, Preparing for and Responding to a Breach of Personally Identifiable Information. Routine use R has been modified to reflect the agency name change for the Government Accountability Office.

DOI is proposing a new routine use to facilitate the sharing of information with another Federal agency to carry out a statutory responsibility of the DOI. Proposed routine use S allows DOI to share information with the Department of the Treasury in support of the Do Not Pay Program in accordance with the Payment Integrity Information Act of 2019 to prevent and detect improper payments.

Pursuant to the Privacy Act, 5 U.S.C. 552a(b)(12), DOI may disclose information from this system to consumer reporting agencies as defined in the Fair Credit Reporting Act (15 U.S.C. 1681a(f)) or the Federal Claims Collection Act of 1966 (31 U.S.C. 3701(a)(3)) to aid in the collection of outstanding debts owed to the Federal Government.

II. Privacy Act

The Privacy Act of 1974, as amended, embodies fair information practice principles in a statutory framework governing the means by which Federal agencies collect, maintain, use, and disseminate individuals' records. The Privacy Act applies to records about individuals that are maintained in a “system of records.” A “system of records” is a group of any records under the control of an agency from which information is retrieved by the name of an individual or by some identifying number, symbol, or other identifying particular assigned to the individual. The Privacy Act defines an individual as a United States citizen or lawful permanent resident. Individuals may request access to their own records that are maintained in a system of records in the possession or under the control of DOI by complying with DOI Privacy Act regulations at 43 CFR part 2, subpart K, and following the procedures outlined in the Records Access, Contesting Record, and Notification Procedures sections of this notice.

The Privacy Act requires each agency to publish in the Federal Register a description denoting the existence and character of each system of records that the agency maintains and the routine uses of each system. The INTERIOR/DOI-91, Oracle Federal Financials (OFF), SORN is published in its entirety below. In accordance with 5 U.S.C. 552a(r), DOI has provided a report of this system of records to the Office of Management and Budget and to Congress.

III. Public Participation

You should be aware your entire comment including your personally identifiable information, such as your address, phone number, email address, or any other personal information in your comment, may be made publicly available at any time. While you may request to withhold your personally identifiable information from public review, we cannot guarantee we will be able to do so.

SYSTEM NAME AND NUMBER:

INTERIOR/DOI-91, Oracle Federal Financials (OFF).

SECURITY CLASSIFICATION:

Unclassified.

SYSTEM LOCATION:

Interior Business Center, U.S. Department of the Interior, One Denver Federal Center, Building 48, Denver, CO 80225.

SYSTEM MANAGER(S):

Chief, Technical Services and Solutions Division, U.S. Department of the Interior, Interior Business Center, 381 Elden Street, Suite 200, Herndon, VA 20170.

AUTHORITY FOR MAINTENANCE OF THE SYSTEM:

Executive agency accounting and other financial management reports and plans, 31 U.S.C. 3512; Acceptance of contributions, awards, and other payments, 5 U.S.C. 4111; Installment deduction for indebtedness to the United States, 5 U.S.C. 5514; Travel and Subsistence Expenses; Mileage Allowances, 5 U.S.C. chapter 57, subchapter I ; Collection and compromise, 31 U.S.C. 3711; and the Office of Management and Budget Circular A-123, appendix D, Compliance with the Federal Financial Management Improvement Act of 1996.

PURPOSE(S) OF THE SYSTEM:

The primary purpose of the system is to support financial management for Federal agencies by providing a standardized, automated capability for performing administrative control of funds, general accounting, billing and collections, payments, management reporting, and regulatory reporting.

CATEGORIES OF INDIVIDUALS COVERED BY THE SYSTEM:

Individuals covered by the system include employees of various Federal agencies that are IBC clients using OFF, as well as employees or agents for third party vendors, contractors and suppliers who provide OFF clients with related financial services. This system also contains information about individuals, both employees and non-employees, who owe debts to the Federal government. Records relating to corporations and other business entities contained in this system are not subject to the Privacy Act, however, records relating to individuals acting on behalf of corporations and other business entities may reflect personal information that may be maintained in this system of records.

CATEGORIES OF RECORDS IN THE SYSTEM:

The system contains financial and administrative records that include but are not limited to:

(1) Accounts receivable records, including individuals and employees who owe money to OFF clients and are the subject of collections actions. Records may include first and last names, home addresses, phone numbers, email addresses, Employee Identification Numbers (EINs), and Social Security Numbers (SSNs).

(2) Accounts payable records about non-employee individuals and sole proprietors, including individuals who provide services to OFF clients. These records may include names, home or business addresses, phone or fax numbers, email addresses, Tax Identification Numbers, SSNs, banking account numbers for electronic fund transfer payments, and invoices and claims for reimbursement.

(3) Records of employees of OFF clients who submit claims for reimbursable expenses. These records may include names, EINs, SSNs, work addresses, phone numbers, email addresses, and receipts and claims for reimbursement.

(4) Records of employees of OFF clients who hold government bank or debit cards for purchases or travel. These records may include names, EINs, SSNs, home or work addresses, phone numbers, email addresses, card numbers and purchase histories.

The system may contain other information collected or created through correspondence, reports, or during the processing and support of financial management transactions, administrative controls, and general accounting. The system may also contain additional business and financial records for OFF clients that do not include personal information. Records in this system are subject to the Privacy Act only if they are about an individual within the meaning of the Privacy Act, and not if they are about a business, organization, or other non-individual.

RECORD SOURCE CATEGORIES:

Information sources are Federal customer agencies, contractors, sole proprietors, service providers, third-party vendors, and suppliers who provide related financial and other services to clients using the system.

ROUTINE USES OF RECORDS MAINTAINED IN THE SYSTEM, INCLUDING CATEGORIES OF USERS AND PURPOSES OF SUCH USES:

In addition to those disclosures generally permitted under 5 U.S.C. 552a(b) of the Privacy Act, all or a portion of the records or information contained in this system may be disclosed outside DOI as a routine use pursuant to 5 U.S.C. 552a(b)(3) as follows:

A. To the Department of Justice (DOJ), including Offices of the U.S. Attorneys, or other Federal agency conducting litigation or in proceedings before any court, adjudicative, or administrative body, when it is relevant or necessary to the litigation and one of the following is a party to the litigation or has an interest in such litigation:

(1) DOI or any component of DOI;

(2) Any other Federal agency appearing before the Office of Hearings and Appeals;

(3) Any DOI employee or former employee acting in his or her official capacity;

(4) Any DOI employee or former employee acting in his or her individual capacity when DOI or DOJ has agreed to represent that employee or pay for private representation of the employee; or

(5) The United States Government or any agency thereof, when DOJ determines that DOI is likely to be affected by the proceeding.

B. To a congressional office when requesting information on behalf of, and at the request of, the individual who is the subject of the record.

C. To the Executive Office of the President in response to an inquiry from that office made at the request of the subject of a record or a third party on that person's behalf, or for a purpose compatible with the reason for which the records are collected or maintained.

D. To any criminal, civil, or regulatory law enforcement authority (whether Federal, State, territorial, local, Tribal or foreign) when a record, either alone or in conjunction with other information, indicates a violation or potential violation of law—criminal, civil, or regulatory in nature, and the disclosure is compatible with the purpose for which the records were compiled.

E. To an official of another Federal agency to provide information needed in the performance of official duties related to reconciling or reconstructing data files or to enable that agency to respond to an inquiry by the individual to whom the record pertains.

F. To Federal, State, territorial, local, Tribal, or foreign agencies that have requested information relevant or necessary to the hiring, firing or retention of an employee or contractor, or the issuance of a security clearance, license, contract, grant or other benefit, when the disclosure is compatible with the purpose for which the records were compiled.

G. To representatives of the National Archives and Records Administration (NARA) to conduct records management inspections under the authority of 44 U.S.C. 2904 and 2906.

H. To State, territorial and local governments and Tribal organizations to provide information needed in response to court order and/or discovery purposes related to litigation, when the disclosure is compatible with the purpose for which the records were compiled.

I. To an expert, consultant, grantee, shared service provider, or contractor (including employees of the contractor) of DOI that performs services requiring access to these records on DOI's behalf to carry out the purposes of the system.

J. To appropriate agencies, entities, and persons when:

(1) DOI suspects or has confirmed that there has been a breach of the system of records;

(2) DOI has determined that as a result of the suspected or confirmed breach there is a risk of harm to individuals, DOI (including its information systems, programs, and operations), the Federal Government, or national security; and

(3) the disclosure made to such agencies, entities, and persons is reasonably necessary to assist in connection with DOI's efforts to respond to the suspected or confirmed breach or to prevent, minimize, or remedy such harm.

K. To another Federal agency or Federal entity, when DOI determines that information from this system of records is reasonably necessary to assist the recipient agency or entity in:

(1) responding to a suspected or confirmed breach; or

(2) preventing, minimizing, or remedying the risk of harm to individuals, the recipient agency or entity (including its information systems, programs, and operations), the Federal Government, or national security, resulting from a suspected or confirmed breach.

L. To the Office of Management and Budget (OMB) during the coordination and clearance process in connection with legislative affairs as mandated by OMB Circular A-19.

M. To the Department of the Treasury to recover debts owed to the United States.

N. To the news media and the public, with the approval of the Public Affairs Officer in consultation with counsel and the Senior Agency Official for Privacy, where there exists a legitimate public interest in the disclosure of the information, except to the extent it is determined that release of the specific information in the context of a particular case would constitute an unwarranted invasion of personal privacy.

O. To a commercial credit card contractor(s) for the accounting and payment of employee obligation for travel, purchasing, and fleet management credit card usage.

P. To OFF clients for the purpose of processing, using, and maintaining their agency's data in the OFF system.

Q. To DOJ or other Federal agencies for further collection action on any delinquent debt when circumstances warrant.

R. To the Government Accountability Office, DOJ, or a United States Attorney for actions regarding debt and attempts to collect monies owed.

S. To the Department of the Treasury in order to eliminate waste, fraud, and abuse in Federal programs and to prevent payment errors before they occur in accordance with the Do Not Pay Program which is authorized and governed by the Payment Integrity Information Act of 2019.

POLICIES AND PRACTICES FOR STORAGE OF RECORDS:

Electronic records are maintained on servers located in secure facilities. Paper records are contained in file folders stored in file cabinets in accordance with Departmental policy.

POLICIES AND PRACTICES FOR RETRIEVAL OF RECORDS:

The personal identifiers that can be used to retrieve information on individuals are name, SSN, EIN, bank account number, government travel/small purchase bank card number, and supplier number.

POLICIES AND PRACTICES FOR RETENTION AND DISPOSAL OF RECORDS:

DOI financial management records are retained in accordance with Departmental Records Schedule (DRS) 1—Administrative Records, Long-term Financial and Acquisition Records (DAA-0048-2013-0001-0011), which was approved by NARA. The disposition for these records is temporary with destruction authorized seven years after the cut off of the record as instructed in the bureau or office records manual or at the end of fiscal year in which the files are closed, if no unique cut-off is specified. Approved disposition methods include shredding or pulping for paper records, and degaussing or erasing electronic records in accordance with NARA guidelines and Departmental policy.

Each Federal agency client maintains records in the system in accordance with records retention schedules approved by NARA, and agency clients are responsible for the retention and disposal of their own records. While the IBC provides system administration and management support to agency clients, any records disposal is in accordance with client agency approved data disposal procedures.

ADMINISTRATIVE, TECHNICAL, AND PHYSICAL SAFEGUARDS:

The records contained in this system are safeguarded in accordance with 43 CFR 2.226 and other applicable security and privacy rules and policies. During normal hours of operation, paper records are maintained in locked file cabinets under the control of authorized personnel. Computer servers on which electronic records are stored are located in secured DOI controlled facilities with physical, technical and administrative levels of security to prevent unauthorized access to the DOI network and information assets. A Privacy Act Warning Notice appears on computer monitor screens when records containing information on individuals are first displayed. Data exchanged between the servers and the system is encrypted. Backup tapes are encrypted and stored in a locked and controlled room in a secure, off-site location.

Computerized records systems follow the National Institute of Standards and Technology privacy and security standards as developed to comply with the Privacy Act of 1974, as amended, 5 U.S.C. 552a; Paperwork Reduction Act of 1995, 44 U.S.C. 3501 et seq.; Federal Information Security Modernization Act of 2014, 44 U.S.C. 3551 et seq.; and the Federal Information Processing Standards 199: Standards for Security Categorization of Federal Information and Information Systems. Security controls include user identification, multi-factor authentication, database permissions, encryption, firewalls, audit logs, and network system security monitoring, and software controls.

Access to records in the system is limited to authorized personnel who have a need to access the records in the performance of their official duties, and each user's access is restricted to only the functions and data necessary to perform that person's job responsibilities. System administrators and authorized users are trained and required to follow established internal security protocols and must complete all security, privacy, and records management training and sign the DOI Rules of Behavior. Privacy Impact Assessments are conducted on use of systems and third-party applications to ensure that Privacy Act requirements are met and appropriate privacy controls are implemented to safeguard the personally identifiable information contained in the system.

RECORD ACCESS PROCEDURES:

An individual requesting access to their records should send a written inquiry to the System Manager identified above. DOI forms and instructions for submitting a Privacy Act request may be obtained from the DOI Privacy Act Requests website at https://www.doi.gov/privacy/privacy-act-requests. The request must include a general description of the records sought and the requester's full name, current address, and sufficient identifying information such as date of birth or other information required for verification of the requester's identity. The request must be signed and dated and be either notarized or submitted under penalty of perjury in accordance with 28 U.S.C. 1746. The request must include the specific bureau or office that maintains the record to facilitate location of the applicable records. Requests submitted by mail must be clearly marked “PRIVACY ACT REQUEST FOR ACCESS” on both the envelope and letter. A request for access must meet the requirements of 43 CFR 2.238.

CONTESTING RECORD PROCEDURES:

An individual requesting amendment of their records should send a written request to the System Manager as identified above. DOI instructions for submitting a request for amendment of records are available on the DOI Privacy Act Requests website at https://www.doi.gov/privacy/privacy-act-requests. The request must clearly identify the records for which amendment is being sought, the reasons for requesting the amendment, and the proposed amendment to the record. The request must include the requester's full name, current address, and sufficient identifying information such as date of birth or other information required for verification of the requester's identity. The request must be signed and dated and be either notarized or submitted under penalty of perjury in accordance with 28 U.S.C. 1746. Requests submitted by mail must be clearly marked “PRIVACY ACT REQUEST FOR AMENDMENT” on both the envelope and letter. A request for amendment must meet the requirements of 43 CFR 2.246.

NOTIFICATION PROCEDURES:

An individual requesting notification of the existence of records about them should send a written inquiry to the System Manager as identified above. DOI instructions for submitting a request for notification are available on the DOI Privacy Act Requests website at https://www.doi.gov/privacy/privacy-act-requests. The request must include a general description of the records and the requester's full name, current address, and sufficient identifying information such as date of birth or other information required for verification of the requester's identity. The request must be signed and dated and be either notarized or submitted under penalty of perjury in accordance with 28 U.S.C. 1746. Requests submitted by mail must be clearly marked “PRIVACY ACT INQUIRY” on both the envelope and letter. A request for notification must meet the requirements of 43 CFR 2.235.

EXEMPTIONS PROMULGATED FOR THE SYSTEM:

None.

HISTORY:

80 FR 66551 (October 29, 2015); modification published at 86 FR 50156 (September 7, 2021).

Teri Barnett,
Departmental Privacy Officer, U.S. Department of the Interior.

[FR Doc. 2024-23080 Filed 10-4-24; 8:45 am]

BILLING CODE 4334-63-P